DEPARTMENT OF HOMELAND SECURITY

Coast Guard

33 CFR Part 117

[Docket No. USCG-2016-0892]

Drawbridge Operation Regulation; Rancocas Creek, Burlington, NJ

AGENCY: Coast Guard, DHS.

ACTION: Notice of deviation from drawbridge regulations.

SUMMARY: The Coast Guard has issued a temporary deviation from the operating schedule that governs the Riverside-Delanco/S.R. 543 Bridge across the Rancocas Creek, mile 1.3, at Burlington, NJ. The deviation is necessary to facilitate repairs to the bridge fender system. This deviation allows the bridge to remain in the closed-to-navigation position.

DATES: The deviation is effective from 7 a.m. on Monday, October 3, 2016, to 3:30 p.m. on Monday, October 31, 2016.

ADDRESSES: The docket for this deviation, [USCG-2016-0892] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard, telephone 757-398-6587, email Mickey.D.Sanders2@uscg.mil.

SUPPLEMENTARY INFORMATION: The Burlington County Bridge Commission, who owns and operates the Riverside-Delanco/S.R. 543 Bridge, across the Rancocas Creek, mile 1.3, at Burlington, NJ, has requested a temporary deviation from the current operating regulations set out in 33 CFR 117.745, to repair the bridge fender system.

Under this temporary deviation, the bridge will remain in the closed-to-navigation position and will open on signal, if at least one hour notice is given, Monday through Friday, from 7 a.m. to 3:30 p.m., from October 3, 2016, through October 31, 2016. At all other times the bridge will operate per 33 CFR 117.745(b). The bridge is a swing bridge and has a vertical clearance in the closed-to-navigation position of 4 feet above mean high water.

Rancocas Creek is mostly used by recreational vessels. The Coast Guard has carefully considered the nature and volume of vessel traffic on the waterway in publishing this temporary deviation.

Vessels able to pass through the bridge in the closed position may do so at any time. The bridge will be able to open for emergencies and there is no immediate alternate route for vessels unable to pass through the bridge in the closed position. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 21, 2016.
Hal R. Pitts,
Bridge Program Manager, Fifth Coast Guard District.

[FR Doc. 2016-23090 Filed 9-23-16; 8:45 am]

BILLING CODE 9110-04-P